DEPARTMENT OF ENERGY

Agency Information Collection Reinstatement, With Change

AGENCY: U.S. Department of Energy.

ACTION: Notice and request for comments.

SUMMARY: Under the provisions of the Paperwork Reduction Act, the Department of Energy (DOE) will submit a request to the Office of Management and Budget (OMB) to review and approve a reinstatement, with change, of a previously approved information collection for which approval has expired regarding reports required pursuant to the Technology Transfer Commercialization Act of 2000.

DATES: Comments regarding this proposed information collection must be received on or before December 31, 2018. If you anticipate difficulty in submitting comments within that period, please contact Phillip Harmonick, Attorney-Examiner, Office of Hearings and Appeals, as listed below, as soon as possible.

ADDRESSES: Written comments may be sent to Phillip Harmonick, Office of Hearings and Appeals, U.S. Department of Energy, 1000 Independence Avenue SW, Washington, DC 20585; by fax at (202) 287-1415, or by email at phillip.harmonick@hq.doe.gov. Please refer to OMB Control No. 1910-5118 in all correspondence.

FOR FURTHER INFORMATION CONTACT: Requests for additional information or copies of the information collection instrument and instructions should be directed to Phillip Harmonick at the address listed in ADDRESSES.

SUPPLEMENTARY INFORMATION:

A. Purpose

DOE's Alternative Dispute Resolution Office is one of four entities required by the Technology Transfer Commercialization Act of 2000 to collect reports from technology partnership ombudsmen at each DOE national laboratory. These reports are intended to demonstrate the extent to which each national laboratory has incorporated alternative dispute resolution techniques into its respective technology transfer program.

B. Annual Reporting Burden

DOE has previously collected reports from ombudsmen using a one-page form. DOE proposes replacing the existing form with a quarterly email concerning the number, nature, and resolution of disputes raised, in a format prescribed by DOE, from each technology partnership ombudsman. The following estimates of the annual reporting burden reflect a reduced burden on the public:

Respondents: 17.

Responses per Respondent: 4.

Annual Responses: 68.

Estimated Hours per Response: 0.25.

Estimated Annual Burden Hours: 17.

Estimated Cost per Hour: $50.

Estimated Startup and Maintenance Costs: $0.

Estimated Annual Reporting Cost Burden: $850.

C. Public Comments

Comments are particularly invited on: (a) Whether the collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

Requesters may obtain a copy of the information collection document from Phillip Harmonick at the address listed in ADDRESSES.

Statutory Authority: Section 11 of the Technology Transfer Commercialization Act of 2000, Public Law 106-404, codified at 42 U.S.C. 7261c(c)(3)(C).

Signed in Washington, DC, on October 25, 2018.
Poli Marmolejos,
Director, Office of Hearings and Appeals.

[FR Doc. 2018-23809 Filed 10-30-18; 8:45 am]

BILLING CODE 6450-01-P